ENVIRONMENTAL PROTECTION AGENCY

[EPA-HQ- EPA-HQ-OAR-2024-0345] [FRL-12128-01-OAR]

Alternative Methods for Calculating Off-Cycle Credits Under the Light-Duty Vehicle Greenhouse Gas Emissions Program: Application From Jaguar Land Rover North America, LLC

AGENCY: Environmental Protection Agency (EPA).

ACTION: Notice.

SUMMARY: The Environmental Protection Agency (EPA) is requesting comment on an application from Jaguar Land Rover North America, LLC (“JLR”) for off-cycle carbon dioxide (CO2) credits under EPA's light-duty vehicle greenhouse gas emissions standards. “Off-cycle” emission reductions can be achieved by employing technologies that result in real-world benefits, but where that benefit is not adequately captured on the test procedures used by manufacturers to demonstrate compliance with emission standards. EPA's light-duty vehicle greenhouse gas program acknowledges these benefits by giving automobile manufacturers several options for generating “off-cycle” CO2 credits. Under the regulations, a manufacturer may apply for CO2 credits for off-cycle technologies that result in off-cycle benefits. In these cases, a manufacturer must provide EPA with a proposed methodology for determining the real-world off-cycle benefit. JLR submitted their application describing a methodology for determining off-cycle credits from the technology described in their application. Pursuant to applicable regulations, EPA is making this off-cycle credit calculation methodology available for public comment.

DATES: Comments must be submitted on or before October 23, 2024.

ADDRESSES: Submit your comments referencing Docket ID No. EPA-HQ-OAR-2024-0345 online using www.regulations.gov (our preferred method), by email to a-and-r-Docket@epa.gov or by mail to: EPA Docket Center, Environmental Protection Agency, Mailcode 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: David Wright, Environmental Protection Specialist, Office of Transportation and Air Quality, Implementation, Analysis and Compliance Division, U.S. Environmental Protection Agency, 2000 Traverwood Drive, Ann Arbor, MI 48105. Telephone: (734) 214-4467. Email address: wright.davida@epa.gov.

SUPPLEMENTARY INFORMATION:

I. Background

EPA's light-duty vehicle greenhouse gas (GHG) program provides three pathways by which a manufacturer may accrue off-cycle carbon dioxide (CO2) credits for those technologies that achieve CO2 reductions in the real world but where those reductions are not adequately captured on the test used to determine compliance with the CO2 standards, and which are not otherwise reflected in the standards' stringency. The first pathway is a predetermined list of credit values for specific off-cycle technologies that may be used beginning in model year 2014.¹ This pathway allows manufacturers to use conservative credit values established by EPA for a wide range of technologies, with minimal data submittal or testing requirements, if the technologies meet EPA regulatory definitions. In cases where the off-cycle technology is not on the menu but additional laboratory testing can demonstrate emission benefits, a second pathway allows manufacturers to use a broader array of emission tests (known as “5-cycle” testing because the methodology uses five different testing procedures) to demonstrate and justify off-cycle CO2 credits.² The additional emission tests allow emission benefits to be demonstrated over some elements of real-world driving not adequately captured by the GHG compliance tests, including high speeds, hard accelerations, and cold temperatures. These first two methodologies were completely defined through notice and comment rulemaking and therefore no additional process is necessary for manufacturers to use these methods. The third and last pathway allows manufacturers to seek EPA approval to use an alternative methodology for determining the off-cycle CO2 credits.³ This option is only available if the benefit of the technology cannot be adequately demonstrated using the 5-cycle methodology. Manufacturers may also use this option to demonstrate reductions that exceed those available via use of the predetermined list.

¹ See 40 CFR 86.1869-12(b).

² See 40 CFR 86.1869-12(c).

³ See 40 CFR 86.1869-12(d).

Under the regulations, a manufacturer seeking to demonstrate off-cycle credits with an alternative methodology (i.e., under the third pathway described above) must describe a methodology that meets the following criteria:

• Use modeling, on-road testing, on-road data collection, or other approved analytical or engineering methods;

• Be robust, verifiable, and capable of demonstrating the real-world emissions benefit with strong statistical significance;

• Result in a demonstration of baseline and controlled emissions over a wide range of driving conditions and number of vehicles such that issues of data uncertainty are minimized;

• Result in data on a model type basis unless the manufacturer demonstrates that another basis is appropriate and adequate.

Further, the regulations specify the following requirements regarding an application for off-cycle CO2 credits:

• A manufacturer requesting off-cycle credits must develop a methodology for demonstrating and determining the benefit of the off-cycle technology and carry out any necessary testing and analysis required to support that methodology.

• A manufacturer requesting off-cycle credits must conduct testing and/or prepare engineering analyses that demonstrate the in-use durability of the technology for the full useful life of the vehicle.

• The application must contain a detailed description of the off-cycle technology and how it functions to reduce CO2 emissions under conditions not represented on the compliance tests.

• The application must contain a list of the vehicle model(s) which will be equipped with the technology.

• The application must contain a detailed description of the test vehicles selected and an engineering analysis that supports the selection of those vehicles for testing.

• The application must contain all testing and/or simulation data required under the regulations, plus any other data the manufacturer has considered in the analysis.

Finally, the alternative methodology must be approved by EPA prior to the manufacturer using it to generate credits. As part of the review process defined by regulation, the alternative methodology submitted to EPA for consideration must be made available for public comment.⁴ EPA will consider public comments as part of its final decision to approve or deny the request for off-cycle credits.

⁴ See 40 CFR 86.1869-12(d)(2).

II. Off-Cycle Credit Application

A. 48 Volt Efficient Motor-Generator Combined With a 48 Volt/12 Volt DC/DC Converter

JLR is applying for off-cycle GHG credits for the use of a 48 Volt efficient motor-generator combined with a 48 volt/12 volt DC/DC converter. The JLR technology consists of two components, a 48-volt motor-generator which is either belt driven or connected to the crankshaft of an internal combustion engine, and a 48 volt/12 volt DC/DC converter. The 48 volt motor generator provides a couple of functions, it can operate as a starter motor and crank the engine and it also can operate as a generator converting mechanical energy into electrical energy. The efficiency of the 48 volt generator when belt driven is in the range of 80 to 85% and when connected to the crankshaft of an engine it can be as high as 90 to 95%. Once generated the 48 volt electricity needs to be converted to 12 volts for use by the 12 volt electronics in the vehicle. The conversion of the 48 volt electricity to 12 volt is performed by the second device associated with this technology, a DC-DC converter. Converting 48 volt electricity to 12 volt electricity produces an energy loss which also needs to be measured to determine the overall efficiency of the combined 48 volt motor-generator and DC-DC converter. This application is only for determining the off-cycle benefit of the generator portion of the technology.

JLR is the first manufacturer to submit a complete alternative method off-cycle GHG application for a 48 volt motor-generator combined with a 48 volt/12 volt DC-DC converter.

JLR is applying for credits for the 2023 and later model years for vehicles sold in the U.S. and equipped with the 48 volt efficient motor-generator combined with a 48 volt/12 volt DC/DC converter. JLR is requesting a credit value of 1.6 grams/mile. Details of the testing and analysis can be found in the manufacturer's application.

III. EPA Decision Process

EPA has reviewed the applications for completeness and is now making the applications available for public review and comment as required by the regulations. The off-cycle credit applications submitted by the manufacturers (with confidential business information redacted) have been placed in the public docket (see ADDRESSES section above) and on EPA's website at https://www.epa.gov/ve-certification/compliance-information-light-duty-greenhouse-gas-ghg-standards.

EPA is providing a 30-day comment period on this application for off-cycle credits described in this notice, as specified by the regulations. The manufacturer may submit a written rebuttal of comments for EPA's consideration or may revise an application in response to comments. After reviewing any public comments and any rebuttal of comments submitted by manufacturers, EPA will make a final decision regarding the credit request. EPA will make its decision available to the public by placing a decision document (or multiple decision documents) in the docket and on EPA's website at the same manufacturer-specific pages shown above.

Dated: September 18, 2024.
Byron Bunker,
Director, Implementation, Analysis and Compliance Division, Office of Transportation and Air Quality.

[FR Doc. 2024-21713 Filed 9-20-24; 8:45 am]

BILLING CODE 6560-50-P